DEPARTMENT OF ENERGY

Federal Energy Regulatory Commission

Notice of Addendum to January 30, 2002; Offer of Settlement

July 24, 2002.

Take notice that the following addendum to an offer of settlement has been filed with the Commission and is available for public inspection.

a. Type of Application: Addendum to January 30, 2002 Offer of Settlement.

b. Project Nos.: 2364-012 and 2365-023.

c. Date Filed: July 16, 2002.

d. Applicant: Madison Paper Industries.

e. Name of Projects: Abenaki and Anson Projects.

f. Location: On the Kennebec River, in the towns of Anson and Madison, Somerset County, Maine. The projects do not occupy any federal lands.

g. Filed Pursuant to: Rule 602 of the Commission's rules of practice and procedure, 18 CFR 385.602.

h. Applicant Contact: Christopher C. Bean; Vice-President of Engineering, Maintenance, and Utilities; Main Street; P.O. Box 129, Madison, ME; (207) 696-1195. The applicant requests that copies of all correspondence be provided to Maureen Winters, Project Manager, Kleinschmidt Associates, 75 Main Street, P.O. Box 576, Pittsfield, ME 04967; (207) 487-3328.

I. FERC Contact: Nan Allen, (202) 219-2938, e-mail: nan.allen@ferc.gov

j. Deadline for filing comments: 20 days from the date of this notice. Reply comments due 30 days from the date of this notice.

All documents (original and eight copies) should be filed with: Magalie R. Salas, Secretary, Federal Energy Regulatory Commission, 888 First Street, NE, Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Comments may be filed electronically via the Internet in lieu of paper. See 18 CFR 385.2001(a)(1)(iii) and the instructions on the Commission's web site (http://www.ferc.gov) under the “e-Filing” link.

k. Madison Paper Industries (MPI) filed an addendum to its January 30, 2002 offer of settlement on behalf of itself and the U.S. Fish and Wildlife Service; National Park Service, Bureau of Indian Affairs; Maine State Planning Office; Maine Department of Inland Fisheries and Wildlife; Maine Department of Marine Resources; Maine Department of Conservation; Maine Atlantic Salmon Commission; Town of Anson; Town of Madison; Appalachian Mountain Club; Trout Unlimited, including the Kennebec Valley Chapter of Trout Unlimited; Kennebec Valley Trails; Friends of the Kennebec Salmon; Maine Council of the Atlantic Salmon Federation; Maine Historic Preservation Commission; and American Rivers. In the addendum, the signatories agree that their intent is that the licensee not be obligated to implement any protection, mitigation, or enhancement measures earlier than May 1, 2004. The addendum additionally states that a parcel of land included in the shoreland buffer zone under the offer of settlement has been reserved by MPI for future development, and therefore, a separate set of conservation easement restrictions would be developed for the parcel.

l. A copy of the Addendum to the January 30, 2002 Offer of Settlement is on file with the Commission and is available for public inspection. This filing may also be viewed on the Commission's web site at http://www.ferc.gov using the “RIMS” link, select “Docket #” and follow the instructions (call 202-208-2222 for assistance). A copy is also available for inspection and reproduction at the address in h above.

Linwood A. Watson, Jr.,
Deputy Secretary.

[FR Doc. 02-19204 Filed 7-29-02; 8:45 am]

BILLING CODE 6717-01-P